DEPARTMENT OF HOUSING AND URBAN DEVELOPMENT

[Docket No. FR-5191-N-02]

Notice of Proposed Information Collection: Comment Request; Congregate Housing Services Program

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: March 28, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: For copies of the proposed forms and other available information contact Carissa Janis, Office of Housing Assistance and Grants Administration, by telephone at 202-402-2487. (This is not a toll-free number.)

SUPPLEMENTARY INFORMATION: The Department is submitting the proposed information collection to OMB for review, as required by the Paperwork Reduction Act of 1995 (44 U.S.C. Chapter 35, as amended).

The Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Congregate Housing Services Program Annual Reporting Form, Summary Budget Grantee, Annual Program Budget Grantee, and Line of Credit Control System (LOCCS)/ Voice Response System (VRS) Congregate Housing Services Program Payment Voucher.

OMB Control Number: 2502-0485.

Description of the need for the information and proposed use: Completion of the Annual Report by grantees provides HUD with essential information about who the grant is serving and what sort of services the individuals receive through the use of grant funds. The Summary Budget is a matrix of budgeted yearly costs, which shows the services funded through the grant and demonstrates how matching funds, participant fees, and grant funds will be used in tandem to operate the grant program. The Annual Program budget is an optional format which allows grantees to break down expenses for each service, including direct labor, fringe benefits, supplies and materials, and other administrative costs. Field staff approve these annual budgets and request annual extension funds according to the budgets. Field staff can also determine if grantees are meeting statutory and regulatory requirements through the evaluation of these budget forms. HUD will use the Payment Voucher to monitor use of grant funds for eligible activities over the term of the grant. The Grantee may similarly use the Payment Voucher to track and record their requests for payment reimbursement for grant-funded activities.

Agency Form Numbers, if applicable: HUD-90006, “Congregate Housing Services Program Annual Reporting Form”, HUD-91180-A, “Summary Budget Grantee”, HUD-91178-A, “Annual Program Budget”, and HUD90198, “Line of Credit Control System (LOCCS)/Voice Response System (VRS) Congregate Housing Services Program Payment Voucher”.

Estimation of the total numbers of hours needed to prepare the information collection including number of respondents, frequency of response, and hours of response: The estimated number of respondents is 63, the total annual responses is 504, and the total annual hours of response are estimated at 787.5.

Status of the proposed information collection: Reinstatement, with change.

Authority: The Paperwork Reduction Act of 1995, 44 U.S.C. Chapter 35, as amended.

Dated: January 17, 2008.
John L. Garvin,
Senior Advisor to Assistant Secretary for Housing.

[FR Doc. E8-1358 Filed 1-25-08; 8:45 am]

BILLING CODE 4210-67-P